DEPARTMENT OF LABOR

Employment and Training Administration

[TA-W-75,172, TA-W-75,172A, TA-W-75,172B, et al.]

Dex One, et al.; Amended Certification Regarding Eligibility To Apply for Worker Adjustment Assistance

TA-W-75,172

Dex One, Formerly Known as RH Donnelly and/or Dex Media LLC, East Division, Including On-Site Leased Workers of Advantage XPO, Fort Myers, Maitland, and Ocala, FL

TA-W-75,172A

Dex One, Formerly Known as RH Donnelly and/or Dex Media LLC, East Division, Including On-Site Leased Workers From Advantage XPO, Arlington Heights, Chicago, Lombard, Springfield, and Tinley Park, IL

TA-W-75,172B

Dex One, Formerly Known as RH Donnelly and/or Dex Media LLC, East Division, Including On-Site Leased Workers From Advantage XPO, Fayetteville and Morrisville, NC

TA-W-75,172C

Dex One, Formerly Known as RH Donnelly and/or Dex Media LLC, East Division, Including On-Site Leased Workers From Advantage XPO, Las Vegas, NV

TA-W-75,172D

Dex One, Formerly Known as RH Donnelly and/or Dex Media LLC, East Division, Including On-Site Leased Workers From Advantage XPO and Administrative Resource Options, Carlisle and Dunmore, PA

TA-W-75,172E

Dex One, Formerly Known as RH Donnelly and/or Dex Media LLC, East Division, Including On-Site Leased Workers From Advantage XPO, Bristol, TN

In accordance with Section 223 of the Trade Act of 1974, as amended (“Act”), 19 U.S.C. 2273, the Department of Labor issued a Certification of Eligibility to Apply for Worker Adjustment Assistance on February 18, 2011, applicable to workers of Dex One, East Division, including on-site leased workers from Advantage XPO, in Fort Myers, Maitland, and Ocala, Florida (TA-W-75,172); Arlington Heights, Chicago, Lombard, Springfield, and Tinley Park, Illinois (TA-W-75,172A); Fayetteville and Morrisville, North Carolina (TA-W-75,172B); Las Vegas, Nevada (TA-W-75,172C); Carlisle and Dunmore, Pennsylvania (TA-W-75,172D); and Bristol, Tennessee (TA-W-75,172E). The notice was published in the Federal Register on March 10, 2011 (76 FR 13228).

At the request of the State Agency, the Department reviewed the certification for workers of the subject firm. The workers are engaged in activities related to graphic design services.

Dex One was formerly known as RH Donnelly and/or Dex Media, LLC. Some workers dislocated from employment at Dex One had their unemployment insurance (UI) wages reported under a separate account under the name RH Donnelly and/or Dex Media, LLC.

Accordingly, the Department is amending this certification to properly reflect this matter.

The intent of the Department's certification is to include all workers who were adversely affected by the firm acquiring from a foreign country services like or directly competitive with the services supplied by the firm.

The amended notice applicable to TA-W-75,172 is hereby amended as follows:

All workers of Dex One, formerly known as RH Donnelly and/or Dex Media, LLC, East Division, including on-site leased workers from Advantage XPO, in the following locations: Fort Myers, Maitland, and Ocala, Florida (TA-W-75,172); Arlington Heights, Chicago, Lombard, Springfield, and Tinley Park, Illinois (TA-W-75,172A); Fayetteville and Morrisville, North Carolina (TA-W-75,172B); Las Vegas, Nevada (TA-W-75,172C); Carlisle and Dunmore, Pennsylvania, including on-site leased workers from Administrative Resource Options (TA-W-75,172D); and Bristol, Tennessee (TA-W-75,172E), who became totally or partially separated from employment on or after February 2, 2010, through two years from the date of certification, and all workers in the group threatened with total or partial separation from employment on the date of certification through two years from the date of certification, are eligible to apply for adjustment assistance under Chapter 2 of Title II of the Trade Act of 1974, as amended.

Signed in Washington, DC, this 6th day of April 2011.
Michael W. Jaffe,
Certifying Officer, Office of Trade Adjustment Assistance.

[FR Doc. 2011-8982 Filed 4-13-11; 8:45 am]

BILLING CODE P